DEPARTMENT OF TRANSPORTATION

Federal Aviation Administration

14 CFR Part 39

[Docket No. 2002-CE-49-AD]

RIN 2120-AA64

Airworthiness Directives; Socata—Groupe Aerospatiale Models MS 892A-150, MS 892E-150, MS 893A, MS 893E, MS 894A, MS 894E, Rallye 150T, and Rallye 150ST Airplanes

AGENCY: Federal Aviation Administration, DOT.

ACTION: Notice of proposed rulemaking (NPRM).

SUMMARY: This document proposes to supersede Airworthiness Directive (AD) 2002-05-04, which applies to certain Socata Models MS 892A-150, MS 892E-150, MS 893A, MS 893E, MS 894A, MS 894E, Rallye 150T, and Rallye 150ST airplanes. AD 2002-05-04 requires you to repetitively inspect any engine mount assembly that is not part number 892-51-0-035-0 (or FAA-approved equivalent part number) for cracks; repair cracks that do not exceed a certain length; and replace the engine mount when the cracks exceed a certain length and cracks are found on an engine mount that already has been repaired twice. This proposed AD is the result of the French airworthiness authority's determination that airplanes equipped with an engine mount assembly part number 892-51-0-035-0 also display the unsafe condition. This proposed AD would retain the repetitive inspection and repair requirements of AD 2002-05-04, change the applicability section, remove the terminating action, and require replacement of all part number 892-51-0-035-0 engine mount assemblies. The actions specified by this proposed AD are intended to prevent failure of the engine mount assembly. Such failure could result in loss of control of the airplane.

DATES: The Federal Aviation Administration (FAA) must receive any comments on this rule on or before January 31, 2003.

ADDRESSES: Submit comments to FAA, Central Region, Office of the Regional Counsel, Attention: Rules Docket No. 2002-CE-49-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-49-AD” in the subject line. If you send comments electronically as attached electronic files, the files must be formatted in Microsoft Word 97 for Windows or ASCII text.

You may get service information that applies to this proposed AD from Socata Groupe Aerospatiale, Customer Support, Aerodrome Tarbes-Ossun-Lourdes, BP 930-F65009 Tarbes Cedex, France; telephone: 011 33 5 62 41 73 00; facsimile: 011 33 5 62 41 76 54; or the Product Support Manager, Socata—Groupe Aerospatiale, North Perry Airport, 7501 Pembroke Road, Pembroke Pines, Florida 33023; telephone: (954) 894-1160; facsimile: (954) 964-4141. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify this proposed rule. You may view all comments we receive before and after the closing date of this proposed rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-49-AD.” We will date stamp and mail the postcard back to you.

Discussion

Has FAA Taken Any Action to This Point?

Fatigue cracks found on the engine mount assemblies of certain Socata Models MS 892A-150, MS 892E-150, MS 893A, MS 893E, MS 894A, MS 894E, Rallye 150T, and Rallye 150ST airplanes caused us to issue AD 2002-05-04, Amendment 39-12672 (67 FR 10831, March 11, 2002). This AD requires the following on affected airplane models and serial numbers that are certificated in any category and do not have a part number 892-51-0-035-0 engine mount assembly (or FAA-approved equivalent part number) installed:

—Repetitively inspecting any engine mount assembly that is not part number 892-51-0-035-0 (or FAA-approved equivalent part number) for cracks;

—Repairing cracks that do not exceed a certain length;

—Replacing the engine mount when the cracks exceed a certain length and cracks are found on an engine mount that already has two repairs; and

—Terminating repetitive inspections after installing a part number 892-51-0-035-0 engine mount assembly, (or FAA-approved equivalent part number).

AD 2002-05-04 superseded AD 77-15-06, Amendment 39-2975, which required accomplishing the following:

—Inspecting the engine mount assembly for cracks at repetitive intervals;

—Repairing any cracks found; and

—Modifying the brackets on airplanes with right angle engine mounts.

AD 2002-05-04 incorporated new manufacturer service information to address the unsafe condition, added additional airplane models to the applicability; and changed the initial compliance time for all airplanes.

Accomplishment of these actions is required in accordance with Socata Service Bulletin SB 156-71, dated May 2001.

What Has Happened Since AD 2002-05-04 To Initiate This Action?

The Direction Générale de l'Aviation Civile (DGAC), which is the airworthiness authority for France, recently notified FAA of the need to change AD 2002-05-04. The DGAC reports that affected airplanes equipped with an engine mount assembly part number 892-51-0-035-0 are also affected by fatigue cracking and should be included in the applicability section of AD 2002-05-04. Installing part number 892-51-0-035-0 is no longer considered a terminating action for the repetitive inspections and should be removed from all affected airplanes.

What Action Did the DGAC Take?

The DGAC classified Socata Service Bulletin SB 156-71, dated May 2001, as mandatory and issued French AD 2001-400(A), dated September 19, 2001; and French AD 1978-205(A) R1, dated September 19, 2001; in order to ensure the continued airworthiness of these airplanes in France.

Was This in Accordance With the Bilateral Airworthiness Agreement?

These airplane models are manufactured in France and are type certificated for operation in the United States under the provisions of section 21.29 of the Federal Aviation Regulations (14 CFR 21.29) and the applicable bilateral airworthiness agreement.

Pursuant to this bilateral airworthiness agreement, DGAC has kept FAA informed of the situation described above.

The FAA's Determination and an Explanation of the Provisions of This Proposed AD

What Has FAA Decided?

The FAA has examined the findings of the DGAC; reviewed all available information, including the service information referenced above; and determined that:

—The unsafe condition referenced in this document exists or could develop on certain Socata Models MS 892A-150, MS 892E-150, MS 893A, MS 893E, MS 894A, MS 894E, Rallye 150T, and Rallye 150ST airplanes of the same type design that are on the U.S. registry;

—The inspection and repair actions specified in AD 2002-05-04 should be accomplished on certain affected airplanes; and

—AD action should be taken in order to correct this unsafe condition.

What Would This Proposed AD Require?

This proposed AD would supersede AD 2002-05-04 with a new AD that would:

—Retain the repetitive inspection and repair requirements of AD 2002-05-04;

—Remove the terminating action;

—Change the applicability section; and

—Require replacement of all part number 892-51-0-035-0 engine mount assemblies with an FAA-approved equivalent part number.

Cost Impact

How Many Airplanes Would This Proposed AD Impact?

We estimate that this proposed AD affects 81 airplanes in the U.S. registry.

What Would Be the Cost Impact of This Proposed AD on Owners/Operators of the Affected Airplanes?

We estimate the following costs to accomplish each proposed inspection(s):

Labor cost | Parts cost | Total cost per airplane | Total cost on U.S. operators
1 workhour × $60 = $60 | No parts required | $60 | $60 × 81 = $4,860

We estimate the following costs to accomplish any necessary repairs that would be required based on the results of the proposed inspection(s). We have no way of determining the number of airplanes that may need such repair:

Labor cost | Parts cost | Total cost per airplane
3 workhours × $60 = $180 | No parts required | $180

We estimate the following costs to accomplish the proposed replacement. We have no way of determining the number of airplanes that may need such replacement:

Labor cost | Parts cost | Total cost per airplane
20 workhours × $60 = $1,200 | Approximately $3,360 | $1,200 + $3,360 = $4,560

What Is the Difference Between the Cost Impact of This Proposed AD and the Cost Impact of AD 2002-05-04?

The differences between this proposed AD and AD 2002-05-04 are the correction to the applicability section, removal of the terminating action, and the addition of replacing all part number 892-51-0-035-0 engine mount assemblies. We have determined that this proposed AD action does increase the cost impact over that already required by AD 2002-05-04.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2002-05-04, Amendment 39-12672 (67 FR 10831, March 11, 2002), and by adding a new AD to read as follows:

Socata—Groupe Aerospatiale: Docket No. 2002-CE-49-AD; Supersedes AD 2002-05-04, Amendment 39-12672.

(a) What airplanes are affected by this AD? This AD affects the following airplane models and serial numbers that are certificated in any category:

Model | Serial Nos.
MS 892A-150 | All serial numbers.
MS 892E-150 | All serial numbers.
MS 893A | All serial numbers.
MS 893E | All serial numbers.
MS 894A | 1005 through 2204 equipped with kit OPT8098 9037.
MS 894E | 1005 through 2204 equipped with kit OPT8098 9037.
Rallye 150T | All serial numbers.
Rallye 150ST | All serial numbers.

(b) Who must comply with this AD? Anyone who wishes to operate any of airplanes identified in paragraph (a) of this AD must comply with this AD.

(c) What problem does this AD address? The actions specified by this AD are intended to detect and correct cracks in the engine mount assembly. Such a condition could cause the engine mount assembly to fail, which could result in loss of control of the airplane.

(d) What actions must I accomplish to address this problem? To address this problem, you must accomplish the following:

Actions | Compliance | Procedures
(1) Replace any part number 892-51-0-035-0 engine mount assembly with an FAA-approved assembly that is not part number 892-51-0-035-0 | Within the next 50 hours time-in-service (TIS) after the effective date of this AD | In accordance with the applicable maintenance manual.
(2) Inspect the engine mount assembly for cracks | Initially inspect at whichever of the following occurs later: after accumulating 50 hours TIS after engine mount assembly installation; within the next 20 hours TIS after the effective date of this AD; or at the next inspection required by AD 2002-05-04. Repetitively inspect thereafter at intervals not to exceed 50 hours TIS | In accordance with the Accomplishment Instructions section of Socata Service Bulletin SB 156-71, dated May 2001.
(3) If any crack is found during any inspection required by paragraph (d)(2) of this AD that is less than 0.24 inches (6 mm) in length, repair the engine mount assembly. If two repairs on the engine mount have already been performed, repair in accordance with paragraph (d)(4) of this AD | Prior to further flight after the inspection in which the crack is found | In accordance with the Accomplishment Instructions section of Socata Service Bulletin SB 156-71, dated May 2001.
(4) If any crack is found during any inspection required by this AD that is 0.24 inches (6 mm) or longer in length, or if any crack is found and two repairs on the engine mount have already been performed: (i) Obtain a repair scheme from the manufacturer through the FAA at the address specified in paragraph (g) of this AD; and (ii) Incorporate this repair scheme. | Prior to further flight after the inspection in which the crack is found | In accordance with the repair scheme obtained from Socata Groupe Aerospatiale, Customer Support, Aerodrome Tarbes-Ossun-Lourdes, BP 930-F65009 Tarbes Cedex, France; or the Product Support Manager, Socata—Groupe Aerospatiale, North Perry Airport, 7501 Pembroke Road, Pembroke Pines, Florida 33023. Obtain this repair scheme through the FAA at the address specified in paragraph (f) of this AD.
(5) Do not install on any airplane engine mount assembly part number 892-51-0-035-0 | As of the effective date of this AD | Not applicable.

(e) Can I comply with this AD in any other way?

(1) You may use an alternative method of compliance or adjust the compliance time if:

(i) Your alternative method of compliance provides an equivalent level of safety; and

(ii) The Manager, Standards Office, Small Airplane Directorate, approves your alternative. Submit your request through an FAA Principal Maintenance Inspector, who may add comments and then send it to the Manager, Standards Office.

(2) Alternative methods of compliance approved in accordance with AD 2002-05-04, which is superseded by this AD, are not approved as alternative methods of compliance with this AD.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Socata Groupe Aerospatiale, Customer Support, Aerodrome Tarbes-Ossun-Lourdes, BP 930—F65009 Tarbes Cedex, France; telephone: 011 33 5 62 41 73 00; facsimile: 011 33 5 62 41 76 54; or the Product Support Manager, Socata—Groupe Aerospatiale, North Perry Airport, 7501 Pembroke Road, Pembroke Pines, Florida 33023; telephone: (954) 894-1160; facsimile: (954) 964-4141. You may examine these documents at FAA, Central Region, Office of the Regional Counsel, 901 Locust, Room 506, Kansas City, Missouri 64106.

(i) Does this AD action affect any existing AD actions? This amendment supersedes AD 2002-05-04, Amendment 39-12672.

Note 2: The subject of this AD is addressed in French AD 2001-400(A), dated September 19, 2001; and French AD 1978-205(A) R1, dated September 19, 2001.

Issued in Kansas City, Missouri, on December 17, 2002.
David R. Showers,
Acting Manager, Small Airplane Directorate, Aircraft Certification Service.

[FR Doc. 02-32336 Filed 12-23-02; 8:45 am]

BILLING CODE 4910-13-P